DEPARTMENT OF TRANSPORTATION

Federal Motor Carrier Safety Administration

[Docket No. FMCSA-2012-0149]

National Registry of Certified Medical Examiners Testing Providers Public Meeting

AGENCY: Federal Motor Carrier Safety Administration (FMCSA), U.S. Department of Transportation (DOT).

ACTION: Notice of Public Meeting.

SUMMARY: The National Registry of Certified Medical Examiners (National Registry) Testing Providers Public Meeting will take place on Monday, June 11, 2012, from 1:00-4:00 p.m. (EDT), at the U.S. Department of Transportation, 1200 New Jersey Avenue SE., Washington, DC 20590. The purpose of the meeting is to help testing providers understand the regulation and their role so they can make an informed decision about their participation.

DATES: The National Registry Testing Providers meeting will be held from 1:00-4:00 p.m. (EDT) on June 11, 2012. The preliminary agenda for this meeting is located in the SUPPLEMENTARY INFORMATION section of this notice for specific information.

ADDRESSES: The meeting will take place at the U.S. Department of Transportation, 1200 New Jersey Avenue SE., Washington, DC 20590. A conference phone number will be provided for those that are unable to physically attend but would still like to participate. Once you have notified FMCSA that you plan to participate, the Agency will provide the room number, conference phone number, and access code.

TO PARTICIPATE OR FOR FURTHER INFORMATION CONTACT: Ms. Robin Hamilton, Program Analyst, Medical Programs Division, FMCSA, 202-366-4001, robin.hamilton@dot.gov.

SERVICES FOR INDIVIDUALS WITH DISABILITIES: Should you need sign language interpretation or other assistance to participate, please contact Ms. Hamilton by Wednesday, June 6, 2012, to allow us to arrange for such services. There is no guarantee that services requested on short notice can be provided.

SUPPLEMENTARY INFORMATION:

I. Preliminary Agenda

1:00-1:15 p.m. Introductions

1:15-2:15 p.m. Overview of the National Registry of Certified Medical Examiners and the role of the test delivery organizations

2:15-2:45 p.m. Security requirements and privacy protections

2:45-3:15 p.m. Data transfer requirements

3:15-4:00 p.m. Questions

II. Background

FMCSA published The National Registry of Certified Medical Examiners (National Registry) in the Federal Register on April 20, 2012. This rule requires all healthcare practitioners who conduct medical examinations for interstate commercial motor vehicle drivers to undergo training, pass a certification exam, and be listed on the National Registry on the Agency's Web site. The rule becomes effective on May 21, 2012. At that time, testing providers may apply on-line through the National Registry System to be a test delivery organization for the certification exam.

Test delivery organizations play a key role in the rule's implementation. In writing this rule, the Agency decided to use the public/private partnership model. The Agency develops and provides the test to test delivery organizations who then deliver the test, charge whatever fee they determine reasonable, and transmit test results to the Agency. The Agency does not pay the test delivery organization. However, to participate, test delivery organizations must apply and be approved before the Agency will provide access to the system and give the test delivery organization the test forms.

III. Meeting Participation

Attendance is open to all interested parties.

Issued on: May 30, 2012.
Larry W. Minor,
Associate Administrator for Policy.

[FR Doc. 2012-13535 Filed 6-4-12; 8:45 am]

BILLING CODE 4910-EX-P